FEDERAL COMMUNICATIONS COMMISSION

47 CFR Part 73

[MM Docket No. 93-177; FCC 08-228]

An Inquiry Into the Commission's Policies and Rules Regarding AM Radio Service Directional Antenna Performance Verification

AGENCY: Federal Communications Commission.

ACTION: Final rule; announcement of effective date.

SUMMARY: In this document, the Commission announces that the Office of Management and Budget (OMB) has approved, for a period of three years, the information collection requirements associated with Sections 73.61, 73.68, 73.151 and 73.155 of the rules, and that these rules will take effect as of the date of this notice. On October 30, 2008, the Commission published the summary document of the Second Report and Order, In the Matter of An Inquiry Into the Commission's Policies and Rules Regarding AM Radio Service Directional Antenna Performance Verification, MM Docket No. 93-177, FCC 08-228, at 73 FR 64558. The Ordering Clause of the Second Report and Order stated that the Commission would publish a notice in the Federal Register announcing when OMB approval for these rule sections which contains information collection requirements has been received and when the revised rules will take effect. This notice is consistent with the statement in the Second Report and Order.

DATES: The effective date for the amendments to §§ 73.61, 73.68, 73.151 and 73.155 published October 30, 2008 (73 FR 64558) is February 5, 2009.

FOR FURTHER INFORMATION CONTACT: For additional information, please contact Peter Doyle, Peter.Doyle@fcc.gov, of the Media Bureau, Audio Division, (202) 418-2700.

SUPPLEMENTARY INFORMATION: This document announces that, on January 26, 2009, OMB approved, for a period of three years, the information collection requirements contained in Sections 73.61, 73.68, 73.151 and 73.155 of the rules. The Commission publishes this notice to announce the effective date of these rules. If you have any comments on the burden estimates listed below, or how the Commission can improve the collections and reduce any burdens caused thereby, please contact Cathy Williams, Federal Communications Commission, Room 1-C823, 445 12th Street, SW., Washington, DC 20554. Please include OMB Control Number 3060-0991 in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the Commission is notifying the public that it received OMB approval on January 26, 2009, for the information collection requirements contained in the Commission's rules at 47 CFR 73.61, 73.68, 73.151 and 73.155.

Under 5 CFR part 1320, an agency may not conduct or sponsor a collection of information unless it displays a current, valid OMB Control Number.

No person shall be subject to any penalty for failing to comply with a collection of information subject to the Paperwork Reduction Act that does not display a valid OMB Control Number.

The OMB Control Number is 3060-0991 and the total annual reporting burdens for respondents for these information collections are as follows:

OMB Control Numbers: 3060-0991.

OMB Approval Date: January 26, 2009.

Expiration Date: January 31, 2012.

Title: AM Measurement Data.

Form Number: N/A.

Type of Review: Revision of a currently approved collection.

Respondents: Business or other for profit entities. I removed not for profit institutions since we did not include those respondents with our OMB submission.

Number of Respondents/Responses: 1,900 respondents; 4,568 responses.

Estimated Hours per Response: 0.5-25 hours per response.

Frequency of Response: Recordkeeping requirement; On occasion reporting requirement; Third party disclosure requirement.

Total Annual Burden: 30,795 hours.

Total Annual Cost: $826,500.

Obligation to Respond: Required to obtain benefits. The statutory authority for this information collection is contained in Section 154(i) of the Communications Act of 1934, as amended. I removed the other rule sections since they were not included in our submission to OMB.

Nature and Extent of Confidentiality: There is no need for confidentiality with this collection of information.

Privacy Act Assessment: No impact(s).

Needs and Uses: On September 24, 2008, the Commission adopted the Second Report and Order and Second Further Notice of Proposed Rulemaking in the matter of An Inquiry Into the Commission's Policies and Rules Regarding AM Radio Service Directional Antenna Performance Verification, MM Docket No. 93-177, FCC 08-228. The Second Report and Order permits AM stations using directional antennas to use computer modeling techniques to verify AM directional antenna performance, thereby reducing the regulatory burden on these stations.

Directional AM stations use antennas which suppress radiated field in some directions and enhance it in others. Under our current rules, an AM licensee operating with a directional antenna must perform a proof of performance to demonstrate that the antenna pattern conforms to the station's authorization. An AM station must perform a full proof to verify the pattern shape when a new directional antenna system is authorized. Partial proofs, which require fewer measurements, are occasionally necessary to show that an array continues to operate properly. Typically, a full proof requires measurement of the AM station's field strength on six to 12 critical bearings, ranging to distances of 15 kilometers or more from the antenna. Subsequent graphical analysis of proof measurements also requires substantial time and expense. In contrast, the computer modeling techniques authorized in the Second Report and Order are based on internal measurements, making the proof process less time-consuming and expensive for AM licensees.

In order to control interference between stations and assure adequate community coverage, AM stations must conduct various engineering measurements to demonstrate that the antenna system operates as authorized.

Federal Communications Commission.
Marlene H. Dortch,
Secretary.

[FR Doc. E9-2409 Filed 2-4-09; 8:45 am]

BILLING CODE 6712-01-P